DEPARTMENT OF DEFENSE

Office of the Secretary

[Transmittal No. 19-53]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-53 with attached Policy Justification and Sensitivity of Technology.

Dated: December 19, 2019.
Aaron T. Siegel,
Alternate OSD Federal Register Liaison Officer, Department of Defense.

BILLNG CODE 5001-06-P

BILLNG CODE 5001-06-C

Transmittal No. 19-53

Notice of Proposed Issuance of Letter of Offer Pursuant to Section 36(b)(1) of the Arms Export Control Act, as amended

(i) Prospective Purchaser: Government of the United Arab Emirates

(ii) Total Estimated Value:

Major Defense Equipment * | $503.8 million
Other | $326.5 million
TOTAL | $830.3 million

(iii) Description and Quantity or Quantities of Articles or Services under Consideration for Purchase:

Major Defense Equipment (MDE):

Ten (10) CH-47F Chinook Cargo Helicopters

Twenty-six (26) T55-GA-714A Engines (20 installed, 6 spares)

Twenty-four (24) Embedded Global Positioning Systems with Inertial Navigation System (GPS/INS) (20 installed, 4 spares)

Twelve (12) AN/AAR-57 Common Missile Warning Systems (CMWS) (10 installed, 2 spares)

Twenty (20) M134D-H Mini Guns Twenty (20) M240H Machine Guns

Non-MDE:

Also included are aircraft survivability equipment to include: APR-39A(V)l, AN/ARC-231, Harris RF-7850A-MR, Thales 5400NS, Tetra THR9i, AN/APX-123A, WESCAM MX-l5HDi, ARN-147 VOR/ILS, ARN-153 TACAN, APN-209 Receiver Transmitters, APN-209 Indicator, AN/ARC-220; Infrared Suppression System (IRSS); Fast Rope Insertion/Extraction System (FRIES); Extended Range Fuel System (ERFS); Fire Fighting Equipment; Ballistic Armor Protection System; air worthiness support; spare and repair parts; communications equipment; personnel training and training equipment; site surveys; tool and test equipment; ground support equipment; repair and return; publications and technical documentation; Quality Assurance Team (QAT); U.S. Government and contractor engineering, technical and logistics support services; and other related elements of logistics and program support.

(iv) Military Department: Army (AE-B-ZAP)

(v) Prior Related Cases, if any: AE-B-ZAF

(vi) Sales Commission, Fee, etc., Paid, Offered, or Agreed to be Paid: None

(vii) Sensitivity of Technology Contained in the Defense Article or Defense Services Proposed to be Sold: See Attached Annex

(viii) Date Report Delivered to Congress: November 7, 2019

*As defined in Section 47(6) of the Arms Export Control Act.

POLICY JUSTIFICATION

United Arab Emirates (UAE)—CH-47F Chinook Cargo Helicopters

The Government of the United Arab Emirates has requested to buy ten (10) CH-47F Chinook cargo helicopters; twenty-six (26) T55-GA-714A Engines; twenty-four (24) Embedded Global Positioning Systems with Inertial Navigation System (GPS/INS); twelve (12) AN/AAR-57 Common Missile Warning Systems (CMWS); twenty (20) M134D-H Mini Guns; and twenty (20) M240H Machine Guns. Also included are aircraft survivability equipment to include: APR-39A(V)l, AN/ARC-231, Harris RF-7850A-MR, Thales 5400NS, Tetra THR9i, AN/APX-123A, WESCAM MX-l5HDi, ARN-147 VOR/ILS, ARN-153 TACAN, APN-209 Receiver Transmitters, APN-209 Indicator, AN/ARC-220; Infrared Suppression System (IRSS); Fast Rope Insertion/Extraction System (FRIES); Extended Range Fuel System (ERFS); Fire Fighting Equipment; Ballistic Armor Protection System; air worthiness support; spare and repair parts; communications equipment; personnel training and training equipment; site surveys; tool and test equipment; ground support equipment; repair and return; publications and technical documentation; Quality Assurance Team (QAT); U.S. Government and contractor engineering, technical and logistics support services; and other related elements of logistics and program support. The estimated cost is $830.3 million.

This proposed sale will support the foreign policy and national security of the United States by helping to improve the security of an important partner in the region. This sale is consistent with U.S. initiatives to provide key partners in the region with modem systems that will enhance interoperability with U.S. forces and increase security.

The proposed sale will expand the UAE's helicopter fleet. Further, it will enhance the UAE's operational and defensive capabilities to better defend U.S. and UAE national security interests in the region, and increase the UAE's contributions to any future joint or coalition efforts requiring helicopter support. The UAE will have no difficulty absorbing these defense articles and services into its armed forces.

The proposed sale of these helicopters will not alter the basic military balance in the region.

The principal contractors will be Boeing Helicopters Aircraft Company in Ridley Park, Pennsylvania; Honeywell Engine Company in Phoenix, Arizona; Science and Engineering Services in Huntsville, Alabama. There are no known offset agreements in connection with this potential sale.

Implementation of this proposed sale will require an estimated ten (10) U.S. Government and contractor representatives to travel to UAE for up to 60 months for equipment de-processing, fielding, system checkout, training and technical logistics support.

There will be no adverse impact on U.S. defense readiness as a result of this proposed sale.

Transmittal No. 19-53

Notice of Proposed Issuance of Letter of Offer Pursuant to Section 36(b)(1) of the Arms Export Control Act

Annex

Item No. vii

(vii) Sensitivity of Technology:

1. The CH-47F Chinook Cargo Helicopter is a medium lift aircraft that includes two T55-GA-714A Engines and an advanced cockpit that features five multi- function displays, a four-axis coupled flight director, digital map, and Dual Embedded Global Positioning System/Inertial Navigation System (GPS/INS) (EGI).

a. Embedded Global Positioning System/Inertial Navigation System (GPS/INS) (EGI) - The EGI is a Selective Availability Anti-Spoofing Module (SAASM) based navigation platform that combines an inertial sensor assembly with a fixed reception pattern antenna GPS receiver. The EGI system is the primary source for position information and is UNCLASSIFIED. The GPS crypto variables needed for the highest GPS accuracy are classified up to SECRET.

b. AN/AAR-57 Common Missile Warning System (CMWS) - The CMWS detects threat missiles in flight, evaluates potential false alarms, declares validity of threat and selects the appropriate Infrared Countermeasure (IRCM). Each platform includes: Electro Optical Missile Sensors, an Electronic Control Unit (ECU), Sequencer, and the Improved Countermeasures Dispenser (ICMD). The hardware is classified CONFIDENTIAL. Releasable technical manuals for operation and maintenance are classified SECRET.

c. AN/APR-39A Radar Warning System - This radar signal detecting set provides warning of a radar directed air defense threat to allow appropriate countermeasures. Hardware is classified CONFIDENTIAL when programmed with U.S. threat data. Releasable technical manuals for operation and maintenance are classified CONFIDENTIAL. Releasable technical data (technical performance) are classified SECRET. The system can be programmed with threat data provided by the purchasing country.

d. The U.S. Army will provide the RT-1749 exportable version of the AN/ARC-220 radio. This radio is fully digital and made specifically for rotary wing applications allowing crew members to communicate at non line of sight distances.

e. The AN/PYQ-10 (C) Simple Key Loader (SKL) is a ruggedized, portable, hand-held fill device used for securely receiving, storing, and transferring electronic key material and data between compatible end cryptographic units (ECU) and communications equipment. It supports both the DS-101 and DS-102 interfaces, as well as the Crypto Ignition Key and is compatible with existing ECUs.

f. The MX-15 HDi imaging system is a multi-sensor, multi-spectral imaging system with a range of features and benefits to include long range laser illumination. The MX-15 HDi is ideal for medium-altitude covert Intelligence, Surveillance and Reconnaissance (ISR) and Search and Rescue (SAR) missions, and it can be integrated into aerostat, fixed-wing, rotary wing and Unmanned Aerial Vehicle aircraft. The MX-15 HDi system can include up to six imaging and laser sensors, HD Thermal Imager, Color Low-Light Continuous Zoom, Daylight Step-Zoom Spotter, Short Wave Infrared (SWIR) Imager, Laser Rangefinder (LRF), and Laser Illuminator (LI). The MX-15 HDi offers superior high-definition imaging resolution from Electro-Optical (EO) and Infrared (IR) cameras. The system boasts user-friendly technologies that improve operator effectiveness such as a color low-light, wide-angle zoom EO imager, and outstanding range performance during limited visibility due to atmospherics, real-time image enhancement for EO day, EO night and IR. This MX-15 HDi imaging system is a highlyeffective system that utilizes the most recent developments in imaging technology.

2. Software, hardware, and other data/information that is classified or sensitive is reviewed prior to release to protect system vulnerabilities, design data, and performance parameters. Some end-item hardware, software, and other data identified above are classified at the CONFIDENTIAL level.

3. Loss of this hardware, software, documentation and/or data could permit development of information which may lead to a significant threat to future U.S. military operations. If a technologically advanced adversary were to obtain knowledge of the specific hardware and software elements, the information could be used to develop countermeasures or equivalent systems, which might reduce weapon system effectiveness or be used in the development of a system with similar or advanced capabilities.

4. A determination has been made that UAE can provide substantially the same degree of protection for this technology as the U.S. Government. This proposed sale is necessary in furtherance of the U.S. foreign policy and national security objectives outlined in the Policy Justification.

5. All of the defense articles and services listed in this transmittal have been authorized for release and export to the United Arab Emirates.

[FR Doc. 2019-28048 Filed 12-27-19; 8:45 am]

BILLING CODE 5001-06-P